Title 3—

The President

Presidential Determination No. 2001-23 of August 9, 2001

Waiver of Sanctions for the Export of Select U.S. Munitions List U.S.-Origin Helicopter and Armored Personnel Carrier Spare Parts and Ammunition from the United States to

Pakistan

Memorandum for the Secretary of State

Pursuant to the authority vested in me as President of the United States, and consistent with Title IX of the Department of Defense Appropriations Act, 2000 (Public Law 106-79), I hereby waive the application of the restrictions contained in sections 101 and 102 of the Arms Export Control Act, as they have been applied under the International Traffic in Arms Regulations, and determine and certify to the Congress that the application of such restrictions would not be in the national security interests of the United States:

With respect to Pakistan, insofar as such restriction would otherwise apply to the sale of certain specified U.S.-origin helicopter and armored personnel carrier spare parts and ammunition to Pakistan for use in its deployment in Sierra Leone in support of UN peacekeeping operations.

You are authorized and directed to transmit this determination and certification to the appropriate committees of the Congress and to arrange for its publication in the Federal Register.

B

THE WHITE HOUSE,

Washington, August 9, 2001.

[FR Doc. 01-21586

Filed 8-23-01; 8:45 am]

Billing code 4710-10-M